DEPARTMENT OF TRANSPORTATION

Federal Aviation Administration

14 CFR Part 39

[Docket No. FAA-2007-0391; Directorate Identifier 2007-NM-271-AD; Amendment 39-15891; AD 2009-09-05]

RIN 2120-AA64

Airworthiness Directives; Airbus Model A318-100 and A319-100 Series Airplanes; A320-111 Airplanes; A320-200 Series Airplanes; and A321-100 and A321-200 Series Airplanes

AGENCY: Federal Aviation Administration (FAA), Department of Transportation (DOT).

ACTION: Final rule.

SUMMARY: The FAA is superseding an existing airworthiness directive (AD), which applies to certain Airbus Model A318-100 and A319-100 series airplanes; A320-111 airplanes; A320-200 series airplanes; and A321-100 and A321-200 series airplanes. That AD currently requires a one-time inspection of the horizontal hinge pin of the 103VU electrical panel in the avionics compartment to determine if the hinge pin can move out of the hinge, and related investigative and corrective actions if necessary. This new AD instead requires installing a hinge pin stopper on the internal door of the 103VU electrical panel. This AD results from a report indicating that electrical wire damage was found in the 103VU electrical panel due to contact between the hinge pin and the adjacent electrical wire harness. We are issuing this AD to prevent contact between the horizontal hinge pin and the adjacent electrical wire harness, which could result in damage to electrical wires, and consequent arcing and/or failure of associated systems.

DATES: This AD becomes effective June 4, 2009.

The Director of the Federal Register approved the incorporation by reference of a certain publication listed in the AD as of June 4, 2009.

ADDRESSES: For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

The FAA issued a notice of proposed rulemaking (NPRM) to amend 14 CFR part 39 to include an AD that supersedes AD 2006-03-10, amendment 39-14474 (71 FR 6665, February 9, 2006). The existing AD applies to certain Airbus Model A318-100 and A319-100 series airplanes; A320-111 airplanes; A320-200 series airplanes; and A321-100 and A321-200 series airplanes. That NPRM was published in the Federal Register on January 9, 2008 (73 FR 1558). That NPRM proposed to discontinue the existing requirements and instead require installing a hinge pin stopper on the internal door of the 103VU electrical panel. This AD results from a report indicating that electrical wire damage was found in the 103VU electrical panel due to contact between the hinge pin and the adjacent electrical wire harness.

Comments

We provided the public the opportunity to participate in the development of this AD. We have considered the comments that have been received on the NPRM.

Request for Additional Action

The Air Transport Association (ATA), on behalf of one of its members, Northwest Airlines (NWA), notes that the proposed modification prevents only outboard migration of the pins, and requests that the AD be changed to require a hinge pin stopper to be added to both ends of the hinge to completely contain the hinge pin and prevent inboard migration.

We do not agree with ATA's request. We are issuing this AD to address potential wire damage due to outboard migration of the hinge pin. There is no potential of wire damage due to inboard migration of the pin. However, if additional data show that inboard migration of the hinge pin causes an unsafe condition, we might consider further rulemaking. We have not changed the AD in this regard.

Request for Alternate Modification

The ATA, on behalf of NWA, requests that the AD be changed to allow the hinge stoppers to be installed using the existing hole in the lower angle fitting (part number D92510153000) adjacent to the end hinge mounting hole, instead of drilling a new hole through the hinge assembly. NWA states that this change would eliminate the need for any drilling during modification, and would more easily facilitate accomplishment within the line maintenance environment, providing greater scheduling flexibility.

We do not agree with ATA's request. Airbus Mandatory Service Bulletin A320-25-1535, dated April 27, 2007, specifies drilling a hole on the hinge. The commenter did not provide sufficient data to substantiate that using the existing hole would address the identified unsafe condition. To use a different method from the one specified in that service bulletin, operators may request approval of an alternative method of compliance (AMOC) according to paragraph (g) of the AD. We have not changed the AD in this regard.

Conclusion

We have carefully reviewed the available data, including the comments that have been submitted, and determined that air safety and the public interest require adopting the AD as proposed.

Costs of Compliance

This AD affects about 658 Airbus Model A318-100 and A319-100 series airplanes; A320-111 airplanes; A320-200 series airplanes; and A321-100 and A321-200 series airplanes of U.S. registry. The new actions take about 1 work hour per airplane, at an average labor rate of $80 per work hour. Required parts cost about $20 per airplane. Based on these figures, the estimated cost of the new actions specified in this AD for U.S. operators is $65,800, or $100 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14474 (71 FR 6665, February 9, 2006) and by adding the following new airworthiness directive (AD):

2009-09-05 Airbus: Amendment 39-15891. Docket No. FAA-2007-0391; Directorate Identifier 2007-NM-271-AD.

Effective Date

(a) This AD becomes effective June 4, 2009.

Affected ADs

(b) This AD supersedes AD 2006-03-10.

Applicability

(c) This AD applies to Airbus Model A318-111 and 112; A319-111, -112, -113, -114, -115, -131, -132, and -133; A320-111, -211, -212, -214, -231, -232, and -233; and A321-111, -112, -131, -211, -212, -213, -231, and -232 airplanes; certificated in any category; all manufactured serial numbers; except for those airplanes on which Airbus Modification 36115 has been done in production or Airbus Mandatory Service Bulletin A320-25-1535, dated April 27, 2007, has been done in service.

Unsafe Condition

(d) This AD results from a report indicating that electrical wire damage was found in the 103VU electrical panel due to contact between the hinge pin and the adjacent electrical wire harness. We are issuing this AD to prevent contact between the horizontal hinge pin and the adjacent electrical wire harness, which could result in damage to electrical wires, and consequent arcing and/or failure of associated systems.

Compliance

(e) You are responsible for having the actions required by this AD performed within the compliance times specified, unless the actions have already been done.

Installation

(f) Within 18 months after the effective date of this AD, install a hinge pin stopper on the internal door of the 103VU electrical panel in accordance with the Accomplishment Instructions of Airbus Mandatory Service Bulletin A320-25-1535, dated April 27, 2007.

Alternative Methods of Compliance (AMOCs)

(g)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(h) European Aviation Safety Agency Airworthiness Directive 2007-0214, dated August 7, 2007, also addresses the subject of this AD.

Material Incorporated by Reference

(i) You must use Airbus Mandatory Service Bulletin A320-25-1535, dated April 27, 2007, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on April 15, 2009.
Ali Bahrami,
Manager, Transport Airplane Directorate, Aircraft Certification Service.

[FR Doc. E9-9714 Filed 4-29-09; 8:45 am]

BILLING CODE 4910-13-P